DEPARTMENT OF COMMERCE

Foreign-Trade Zones Board

[B-44-2014]

Foreign-Trade Zone (FTZ) 20—Suffolk, Virginia, Notification of Proposed Production Activity, Becker Hydraulics USA, Inc. (Hydraulic Hose Lines), Chesapeake, Virginia

The Virginia Port Authority, grantee of FTZ 20, submitted a notification of proposed production activity to the FTZ Board on behalf of Becker Hydraulics USA, Inc. (BHUI), located in Chesapeake, Virginia. The notification conforming to the requirements of the regulations of the FTZ Board (15 CFR 400.22) was received on June 4, 2014.

The BHUI facility is located within Site 9 of FTZ 20. The facility is used for the production of hydraulic hose lines used in agricultural equipment, construction equipment, and marine engine applications. Pursuant to 15 CFR 400.14(b), FTZ activity would be limited to the specific foreign-status components and specific finished products described in the submitted notification (as described below) and subsequently authorized by the FTZ Board.

Production under FTZ procedures could exempt BHUI from customs duty payments on the foreign status components used in export production. On its domestic sales, BHUI would be able to choose the duty rates during customs entry procedures that apply to hydraulic hose lines (2.5%) for the foreign status inputs noted below. Customs duties also could possibly be deferred or reduced on foreign status production equipment.

The components sourced from abroad include: rubber hydraulic hoses-wire reinforced; hose fittings and adapters; and, formed/molded rubber hoses (duty rate ranges 3.1 to 3.7%).

Public comment is invited from interested parties. Submissions shall be addressed to the FTZ Board's Executive Secretary at the address below. The closing period for their receipt is August 5, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: June 19, 2014.
Elizabeth Whiteman,
Acting Executive Secretary.

[FR Doc. 2014-14998 Filed 6-25-14; 8:45 am]

BILLING CODE 3510-DS-P